NUCLEAR REGULATORY COMMISSION

[NRC-2015-0001]

Sunshine Act Meeting Notice

DATE: April 27, May 4, 11, 18, 25, June 1, 8, 2015.

PLACE: Commissioners' Conference Room, 11555 Rockville Pike, Rockville, Maryland.

STATUS: Public and Closed.

Week of April 27, 2015

Thursday, April 30, 2015

8:55 a.m.

Affirmation Session (Tentative)

DTE Electric Co. (Fermi Nuclear Power Plant, Unit 3), Docket No. 52-033 (Public Meeting) (Tentative)

This meeting will be webcast live at the Web address— http://www.nrc.gov/.

9 a.m.

Briefing on the Status of Lessons Learned from the Fukushima Dai-ichi Accident (Public Meeting) (Contact: Jack Davis, 301—415-223)

This meeting will be webcast live at the Web address— http://www.nrc.gov/.

Week of May 4, 2015

There are no meetings scheduled for the week of May 4, 2015.

Week of May 11, 2015—Tentative

There are no meetings scheduled for the week of May 11, 2015.

Week of May 18, 2015—Tentative

Tuesday, May 19, 2015

9 a.m.

Briefing on Cumulative Effects of Regulation and Risk Prioritization Initiatives (Public Meeting) (Contact: Steve Ruffin, 301- 415-1985)

This meeting will be webcast live at the Web address— http://www.nrc.gov/.

Thursday, May 21, 2015

9 a.m.

Briefing on the Results of the Agency Action Review Meeting (Public Meeting) (Contact: Nathan Sanfilippo, 301-415-8744)

This meeting will be webcast live at the Web address— http://www.nrc.gov/.

Week of May 25, 2015—Tentative

There are no meetings scheduled for the week of May 25, 2015.

Week of June 1, 2015—Tentative

There are no meetings scheduled for the week of June 1, 2015

Week of June 8, 205—Tentative

Thursday, June 11, 2015

10 a.m.

Meeting with the Advisory Committee on Reactor Safeguards (Public Meeting) (Contact: Edwin Hackett, 301-415-7360)

This meeting will be webcast live at the Web address— http://www.nrc.gov/.

* * * * *

The schedule for Commission meetings is subject to change on short notice. For more information or to verify the status of meetings, contact Glenn Ellmers at 301-415-0442 or via email at Glenn.Ellmers@nrc.gov.

* * * * *

Additional Information

By a vote of 4-0 on April 28 and 29, 2015, the Commission determined pursuant to U.S.C. 552b(e) and 9.107(a) of the Commission's rules that an Affirmation Session for DTE Electric Co. (Fermi Nuclear Power Plant, Unit 3), Docket No. 52-033, Mandatory Hearing Decision be held with less than one week notice to the public. The meeting is tentatively scheduled for April 30, 2015.

This meeting will be webcast live at the Web address— http://www.nrc.gov/.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: April 29, 2015.
Glenn Ellmers,
Policy Coordinator, Office of the Secretary.

[FR Doc. 2015-10384 Filed 4-30-15; 11:15 am]

BILLING CODE 7590-01-P